DEPARTMENT OF JUSTICE

Antitrust Division

Notice Pursuant to the National Cooperative Research and Production Act of 1993—Government Electronics & Information Technology Association

Notice is hereby given that, on September 15, 2004, pursuant to Section 6(a) of the National Cooperative Research and Production Act of 1993, 15 U.S.C. 4301 et seq. (“the Act”), Government Electronics & Information Technology Association (“GEIA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Government Electronics & Information Technology Association, Arlington, VA. The nature and scope of GEIA's standards development activities are: standards focused on business, management, modeling and processes. These include those functions associated with the design, manufacture, and integration of electronics and information technology systems, products, and their interoperability.

Dorothy B. Fountain,
Deputy Director of Operations, Antitrust Division.

[FR Doc. 04-26219 Filed 11-26-04; 8:45 am]

BILLING CODE 4410-11-M